DEPARTMENT OF AGRICULTURE

Farm Service Agency

Request for Extension and Revision of a Currently Approved Information Collection; Request for Direct Loan Assistance

AGENCY: Farm Service Agency, USDA.

ACTION: Notice and request for comments.

SUMMARY: In accordance with the Paperwork Reduction Act of 1995, this notice announces the intent of the Farm Service Agency (FSA) to request renewal of the information collection currently approved and used in support of the FSA Farm Loan Programs (FLP). This information collection has been revised for clarification in conjunction with the request for extension of the burden package.

DATES: Comments on this notice must be received on or before October 21, 2005, to be assured consideration.

FOR FURTHER INFORMATION CONTACT: Sam Snyder, USDA, Farm Service Agency, Loan Making Division, 1400 Independence Avenue, SW., STOP 0522, Washington, DC 20250-0522; telephone (202) 720-0599; electronic mail: Sam.Snyder@wdc.usda.gov.

SUPPLEMENTARY INFORMATION:

Title: Request for Direct Loan Assistance.

OMB Control Number: 0560-0167.

Expiration Date of Approval: February 28, 2006.

Type of Request: Extension and revision of a currently approved information collection.

Abstract: Form FSA-410-1 is used for collecting information for making eligibility and financial feasibility determinations on respondents' requests for direct operating, farm ownership, and emergency loans and for currently indebted borrowers requesting loan servicing assistance as authorized under the Consolidated Farm and Rural Development Act. Collection information for making eligibility and financial feasibility determinations on respondents' requests for direct youth loans will now be made on the new Form FSA-2011. Travel time has been included in the Estimated Annual Burden on Respondents.

Estimate of Annual Burden: Public reporting burden for this collection of information is estimated to average 120 minutes per response for the Form FSA-410-1, and 90 minutes for the Form FSA-2011.

Respondents: Individuals or households, businesses or other for profit and farms.

Estimated Number of Respondents: 30,461.

Estimated Number of Responses per Respondent: 1.

Estimated Total Annual Burden on Respondents: 59,343.

Comments are invited on the following: (a) Whether the collection of information is necessary for the proper performance of the functions of the agency, including whether the information will have practical utility; (b) the accuracy of the agency's estimate of burden, including the validity of the methodology and assumptions used; (c) ways to enhance the quality, utility and clarity of the information to be collected; (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Sam Snyder, Senior Loan Officer, USDA, Farm Service Agency, Loan Making Division, 1400 Independence Avenue, SW., STOP 0522, Washington, DC 20250-0522.

Comments will be summarized and included in the request for Office of Management and Budget approval of the information collection. All comments will also become a matter of public record.

Signed in Washington, DC on August 5, 2005.
James R. Little,
Administrator, Farm Service Agency.

[FR Doc. 05-16513 Filed 8-19-05; 8:45 am]

BILLING CODE 3410-05-P